DEPARTMENT OF LABOR

Employment and Training Administration

[TA-W-63,184]

Parat Automotive USA, Duncan, SC; Notice of Termination of Investigation

Pursuant to Section 221 of the Trade Act of 1974, as amended, an investigation was initiated on April 14, 2008 in response to a petition filed by a company official on behalf of workers at Parat Automotive USA, Duncan, South Carolina.

The petitioner has requested that the petition be withdrawn. Consequently, the investigation has been terminated.

Signed in Washington, DC, this 6th day of May 2008.
Linda G. Poole,
Certifying Officer, Division of Trade Adjustment Assistance.

[FR Doc. E8-10588 Filed 5-12-08; 8:45 am]

BILLING CODE 4510-FN-P